DEPARTMENT OF THE INTERIOR

Bureau of Land Management

[LLCAD070000, L91310000, E10000]

Notice of Availability of the Record of Decision for the West Chocolate Mountains Renewable Energy Evaluation Area and California Desert Conservation Area Plan Amendment, Imperial County, CA

AGENCY: Bureau of Land Management, Interior.

ACTION: Notice of availability.

SUMMARY: The Bureau of Land Management (BLM) announces the availability of the Record of Decision (ROD)/Approved Amendment to the California Desert Conservation Area (CDCA) Plan for the West Chocolate Mountains Renewable Energy Evaluation Area (REEA) located in Imperial County, California. The BLM California State Director signed the ROD on August 12, 2013, which constitutes the BLM's final decision.

ADDRESSES: Copies of the ROD/Approved Amendment to the CDCA Plan are available upon request from the Field Manager, BLM El Centro Field Office, 1661 S 4th Street, El Centro, CA 92243; California Desert District Office at 22835 Calle San Juan de Los Lagos, Moreno Valley, CA; or via the Internet at the following Web site: http://www.blm.gov/ca/st/en/fo/elcentro/nepa/wcm.html.

FOR FURTHER INFORMATION CONTACT: Sandra McGinnis, BLM Project Manager, telephone 916-978-4427; address 2800 Cottage Way Suite W-1623, Sacramento, CA 95825; email smcginni@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Final Environmental Impact Statement (EIS) and Proposed Plan Amendment (PA) for the REEA analyzed the potential environmental impacts of making available approximately 20,762 acres of BLM-managed surface lands in the REEA for testing and developing solar and wind energy facilities and for leasing approximately 19,162 acres of Federal mineral estate for geothermal energy testing and development near Niland, California. The Final EIS also analyzed the potential environmental impacts of approving a pending geothermal lease application in the REEA.

The purpose of the proposed action was to facilitate appropriate development of geothermal, solar, and wind energy in the REEA and make appropriate land use plan decisions regarding the location, development, and management of those resources. The Final EIS/Proposed PA fully analyzed six alternatives. The preferred alternative and the BLM's final decision is Alternative 6—Geothermal Development Emphasis with Moderate Solar Development and No Wind Development. Selection of this alternative amends the CDCA Plan to identify areas in the REEA as suitable for geothermal leasing and development and solar energy development, subject to constraints related to the presence of sensitive resources. Standard stipulations as well as a stipulation for groundwater usage to require preparation of a Water Supply Assessment under California Code §§ 10910-10915 are included. In addition, renewable energy development that would require high water usage will not be allowed. The CDCA Plan is also amended to identify the REEA as unsuitable for wind energy development. Additionally, lands east of the Coachella Canal will have a disturbance cap of 10 percent. BLM lands west of the Coachella Canal are identified as a Solar Energy Zone. Finally, a noncompetitive Federal geothermal lease application is approved; however, before development of the lease is authorized, site specific NEPA analysis will be required. The Notice of Availability of the Final EIS/Proposed PA for the REEA was published in the Federal Register December 14, 2012 (77 FR 74479 and 77 FR 71446), which initiated a 30-day protest period for the proposed amendment to the CDCA Plan. During this time no protests were submitted. Simultaneously with the protest period, the Governor of California conducted a consistency review of the proposed CDCA Plan amendment to identify any inconsistencies with State or local plan, policies or programs; no inconsistencies were identified.

The agency decision to authorize a geothermal lease is an implementation decision and is appealable under 43 CFR part 4. Any party adversely affected by the leasing decision may appeal within 30 days of publication of this Notice of Availability pursuant to 43 CFR part 4, subpart E. The appeal must be filed with the BLM at 2800 Cottage Way Suite W-1623, Sacramento, CA 95825 as well as the Regional Solicitor Pacific Southwest Region, U.S. Department of Interior, 2800 Cottage Way, E-1712, Sacramento, CA 95825. Please consult the appropriate regulations (43 CFR part 4, subpart E) for further appeal requirements.

Authority: 40 CFR 1506.6.

Thomas Pogacnik,
Deputy State Director.

[FR Doc. 2013-21603 Filed 9-4-13; 8:45 am]

BILLING CODE 4310-40-P